Title 3—

The President

Proclamation 9148 of July 25, 2014

Anniversary of the Americans with Disabilities Act, 2014

By the President of the United States of America

A Proclamation

Over two decades ago, Americans—some in wheelchairs, some using sign language, and all with an abiding belief in our Nation's promise—came together to strengthen our commitment to equality for all. At a time when people with disabilities were turned away at movie theaters, rejected for employment, and measured by what so many thought they could not do, leaders and activists refused to accept the world as it was. In small towns and big cities, they spoke out. They staged sit-ins, authored discrimination diaries, and scaled the Capitol steps. Finally, they realized their call for simple justice in one of the most comprehensive civil rights bills in our country's history. On the anniversary of the Americans with Disabilities Act (ADA), we honor those who fought against discrimination, and we recommit to tearing down barriers and guaranteeing all Americans the right to pursue their own measure of happiness.

The ADA promises equal access and equal opportunity—regardless of ability. It secures each person's right to an independent life, and it enables our country and our economy to benefit from the talents and contributions of all Americans.

Even as we commemorate this milestone, we recognize that too often, casual discrimination or fear of the unfamiliar still prevent disabled Americans from achieving their full potential. That is why my Administration is pushing to fulfill the promise of and better enforce the ADA. Fifteen years after the Olmstead decision—in which the Supreme Court ruled it discrimination to unjustifiably institutionalize someone with a disability—we have increased the number of homes integrated into communities that are available for persons with disabilities. Under the Affordable Care Act, insurance companies are banned from discriminating on the basis of pre-existing conditions, medical history, or genetic information. Expanding on my Executive Order to establish the Federal Government as a model employer of individuals with disabilities, my Administration is also providing Federal contractors with the tools and resources to recruit, retain, and promote people with disabilities.

The nearly one in five Americans living with a disability are our parents, children, neighbors, colleagues, and friends. They are entitled to the same rights and freedoms as everyone else. Today, we celebrate their accomplishments, stand against discrimination in all its forms, and honor all who sacrificed so future generations might know a more equal society.

NOW, THEREFORE, I, BARACK OBAMA, President of the United States of America, by virtue of the authority vested in me by the Constitution and the laws of the United States, do hereby proclaim July 26, 2014, the Anniversary of the Americans with Disabilities Act. I encourage Americans across our Nation to celebrate the 24th anniversary of this civil rights law and the many contributions of individuals with disabilities.

IN WITNESS WHEREOF, I have hereunto set my hand this twenty-fifth day of July, in the year of our Lord two thousand fourteen, and of the Independence of the United States of America the two hundred and thirty-ninth.

[FR Doc. 2014-18143

Filed 7-30-14; 8:45 am]

Billing code 3295-F4